DEPARTMENT OF TRANSPORTATION

Pipeline and Hazardous Materials Safety Administration

[Docket No. PHMSA-2017-0094]

Pipeline Safety: Coastal Ecological Unusually Sensitive Areas Public Meeting

AGENCY: Pipeline and Hazardous Materials Safety Administration (PHMSA), DOT.

ACTION: Notice of public meeting.

SUMMARY: This notice announces a one-day public meeting to discuss applicable definitions and available geospatial information system (GIS) data sources for marine coastal waters, coastal beaches and the Great Lakes, pertaining to Coastal Ecological Unusually Sensitive Areas (USA).

DATES: The Coastal Ecological USA public meeting will occur on November 17, 2017, from 8:30 a.m. to 5:00 p.m. ET. Members of the public who wish to attend in person are asked to register no later than November 7, 2017, to facilitate entry and guarantee seating. Individuals requiring accommodations, such as sign language interpretation or other ancillary aids, are asked to notify PHMSA no later than November 7, 2017. For additional information, please see the ADDRESSES section of this notice.

ADDRESSES: The meeting will be held at a location yet to be determined in the Washington, DC Metropolitan area. The meeting location, agenda and any additional information will be published once they are finalized on the following public meeting registration page at: https://primis.phmsa.dot.gov/meetings/MtgHome.mtg?mtg=129.

Public Participation

This meeting will be open to the public. Members of the public who wish to attend in person are asked to register at: https://primis.phmsa.dot.gov/meetings/MtgHome.mtg?mtg=129 to facilitate entry and guarantee seating. Members of the public who attend in person will also be provided an opportunity to make a statement during the meeting.

Services for Individuals With Disabilities

The public meeting will be physically accessible to people with disabilities. Individuals requiring accommodations, such as sign language interpretation or other ancillary aids, are asked to notify Leigha Gooding at leigha.gooding@dot.gov.

The meeting will not be webcast; however, a conference call number and presentation slides will be available to remote participants, and any documents presented will be available on the meeting Web site and posted on the E-Gov Web site at http://www.regulations.gov in docket number PHMSA-2017-0094 within 30 days following the meeting.

Written comments: Written comments on the meeting may be submitted to the docket in the following ways:

E-Gov Web site: http://www.regulations.gov. This site allows the public to enter comments on any Federal Register notice issued by any agency.

Fax: 1-202-493-2251.

Mail: Docket Management Facility; U.S. Department of Transportation (DOT), 1200 New Jersey Avenue SE., West Building, Room W12-140, Washington, DC 20590-0001.

Hand Delivery: Room W12-140 on the ground level of the DOT West Building, 1200 New Jersey Avenue SE., Washington, DC, between 9:00 a.m. and 5:00 p.m., Monday through Friday, except on Federal holidays.

Instructions: Identify the docket number PHMSA-2017-0094 at the beginning of your comments. Note that all comments received will be posted without change to www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000, (65 FR 19477) or view the Privacy Notice at www.regulations.gov before submitting any such comments.

Docket: For access to the docket or to read background documents, go to www.regulations.gov at any time or to Room W12-140 on the ground level of the DOT West Building, 1200 New Jersey Avenue SE., Washington, DC, between 9:00 a.m. and 5:00 p.m., Monday through Friday, except Federal holidays.

If you wish to receive confirmation of receipt of your written comments, please include a self-addressed, stamped postcard with the following statement: “Comments on PHMSA-2017-0094.” The Docket Clerk will date stamp the postcard prior to returning it to you via the U.S. mail.

Privacy Act Statement

DOT may solicit comments from the public regarding certain general notices. DOT posts these comments, without edit, including any personal information the commenter provides, to www.regulations.gov, as described in the system of records notice (DOT/ALL- 14 FDMS), which can be reviewed at www.dot.gov/privacy.

FOR FURTHER INFORMATION CONTACT: For information about the meeting, contact Leigha Gooding by phone at 202-366-0667 or by email at leigha.gooding@dot.gov.

SUPPLEMENTARY INFORMATION:

I. Background

Section 19 of the Protecting our Infrastructure of Pipelines and Enhancing Safety Act of 2016 (Pub. L. 114-183) requires PHMSA to expand the definition of an Ecological resource USA (as defined in 49 CFR 195.6(b)) to include the Great Lakes, coastal beaches and marine coastal waters. All USAs are treated as high consequence areas (HCAs), which are subject to stricter safety and maintenance standards (such as 49 CFR 195.452). To address this mandate, PHMSA must define and map these areas. The focus of this one-day public meeting is to bring pipeline safety stakeholders together to discuss applicable definitions and available GIS data sources for Great Lakes, coastal beaches and marine coastal waters. Stakeholder feedback may inform future policy efforts impacting the definition of a Coastal Ecological USA.

II. Meeting Details and Agenda

The Coastal Ecological USA public meeting will include discussions from government and industry stakeholders on proposed definition, available GIS data sources, and how Coastal Ecological USA protect the public and environment through integrity management planning. The meeting will also include facilitated discussions with meeting participants and experts to understand additional perspectives on proposed definitions and recommended GIS data sources.

Issued in Washington, DC, on October 10, 2017, under authority delegated in 49 CFR 1.97.
Alan K. Mayberry,
Associate Administrator for Pipeline Safety.

[FR Doc. 2017-22319 Filed 10-13-17; 8:45 am]

BILLING CODE 4910-60-P